DEPARTMENT OF THE TREASURY

Fiscal Service

Surety Companies Acceptable on Federal Bonds—Termination: Madison Insurance Company

AGENCY: Financial Management Service, Fiscal Service, Department of the Treasury.

ACTION: Notice.

SUMMARY: This is Supplement No. 17 to the Treasury Department Circular 570, 2007 Revision, published July 2, 2007, at 72 FR 36192.

FOR FURTHER INFORMATION CONTACT: Surety Bond Branch at (202) 874-6850.

SUPPLEMENTARY INFORMATION: Notice is hereby given that the Certificate of Authority issued by the Treasury to the above-named company under 31 U.S.C. 9305 to qualify as acceptable surety on Federal bonds was terminated effective June 10, 2008. Federal bond-approving officials should annotate their reference copies of the Treasury Department Circular 570 (“Circular”), 2007 Revision, to reflect this change.

With respect to any bonds, including continuous bonds, currently in force with this company, bond-approving officers should secure new bonds with acceptable sureties in those instances where a significant amount of liability remains outstanding. No new bond should be accepted from this company, and bonds that are continuous in nature should not be renewed.

The Circular may be viewed and downloaded through the Internet at http://www.fms.treas.gov/c570.

Questions concerning this notice may be directed to the U.S. Department of the Treasury, Financial Management Service, Financial Accounting and Services Division, Surety Bond Branch, 3700 East-West Highway, Room 6F01, Hyattsville, MD 20782.

Dated: June 10, 2008.
Vivian Cooper,
Director, Financial Accounting and Services Division.

[FR Doc. E8-13583 Filed 6-18-08; 8:45 am]

BILLING CODE 4810-35-M